DEPARTMENT OF HEALTH AND HUMAN SERVICES

Public Meeting of the President's Council on Bioethics on January 15-16, 2004

AGENCY: The President's Council on Bioethics, HHS.

ACTION: Notice.

SUMMARY: The President's Council on Bioethics (Leon R. Kass, M.D., chairman) will hold its fifteenth meeting, at which, among other things, it will continue discussion of its stem cell research, “beyond therapy” (enhancement), and “biotechnology and public policy” (regulation) projects. Subjects discussed at past Council meetings (and potentially touched on at this meeting) include: human cloning; embryo research; aging retardation and lifespan-extension; organ procurement for transplantation; and assisted reproduction and reproductive genetics (including IVF, ICSI, PGD; sex selection, inheritable genetic modification; and the patentability of human genes, tissues, and organisms).

DATES: The meeting will take place Thursday, January 15, 2004, from 9 a.m. to 5:15 p.m. et; and Friday, January 16, 2004, from 8:30 a.m. to 12:30 p.m. et.

ADDRESSES: Hotel Wyndham Washington DC, 1400 M Street, NW., Washington, DC 20005.

Public Comments: The meeting agenda will be posted at http://www.bioethics.gov. Interested members of the public are encouraged to offer comments, either in person or in writing. A period of time will be set aside during the meeting to receive comments from the public, beginning at 11:30 a.m., on Friday, January 16. Comments will be limited to no more than five minutes per speaker or organization. As a courtesy, please inform Ms. Diane Gianelli, Director of Communications, in advance of your intention to make a public statement, and please give her your name, affiliation, and a brief description of the topic or nature of your comments. To submit a written statement, mail or e-mail it to Ms. Gianelli at one of the addresses given below.

FOR FURTHER INFORMATION CONTACT: Ms. Diane Gianelli, Director of Communications, The President's Council on Bioethics, Suite 700, 1801 Pennsylvania Avenue, Washington, DC 20006. Telephone: 202/296-4669. E-mail: info@bioethics.gov. Web site: http://www.bioethics.gov.

Dated: December 10, 2003.
Dean Clancy,
Executive Director, The President's Council on Bioethics.

[FR Doc. 03-31046 Filed 12-16-03; 8:45 am]

BILLING CODE 4168-17-P